DEPARTMENT OF TRANSPORTATION

Federal Aviation Administration

14 CFR Part 71

[Docket No. FAA-2017-0755; Airspace Docket No. 17-AEA-11]

RIN 2120-AA66

Revocation and Amendment of Class E Airspace; Philipsburg, PA

AGENCY: Federal Aviation Administration (FAA), DOT.

ACTION: Final rule, correction.

SUMMARY: This action corrects a final rule published in the Federal Register on June 11, 2018, amending Class E airspace extending upward from 700 feet or more above the surface for Mid-State Airport, Phillipsburg, PA, by adding the word `side' to the legal description.

DATES: Effective 0901 UTC, July 19, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FOR FURTHER INFORMATION CONTACT: John Fornito, Operations Support Group, Eastern Service Center, Federal Aviation Administration, 1700 Columbia Avenue, College Park, Georgia 30337.

SUPPLEMENTARY INFORMATION:

History

The FAA published a final rule in the Federal Register (83 FR 26839, June 11, 2018) for Doc. No. FAA-2017-0755, amending Class E airspace extending upward from 700 feet or more above the surface at Mid-State Airport, Philipsburg, PA. Subsequent to publication, the FAA found that in the legal description describing the Class E airspace area extending upward from 700 feet above the surface, the word `side' was omitted from the text 3.1 miles each side of the Philipsburg VORTAC 067° radial. This action corrects the error.

Class E airspace designations are published in paragraph 6005, of FAA Order 7400.11B dated August 3, 2017, and effective September 15, 2017, which is incorporated by reference in 14 CFR part 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Correction to Final Rule

Accordingly, pursuant to the authority delegated to me, in the Federal Register of June 11, 2018 (83 FR 26839) FR Doc. 2018-12410, the amendment of Class E Airspace for Mid-State Airport, Philipsburg, PA is corrected as follows:

§ 71.1 [Amended]

AEA PA E5 Philipsburg, PA [Corrected]

On page 26840, column 1, line 38, after the word, `each', add the word, `side'.

Issued in College Park, Georgia, on June 27, 2018.
Ken Brissenden,
Acting Manager, Operations Support Group, Eastern Service Center, Air Traffic Organization.

[FR Doc. 2018-14337 Filed 7-3-18; 8:45 am]

BILLING CODE 4910-13-P